NATIONAL AERONAUTICS AND SPACE ADMINISTRATION

[Notice: 01-158]

Notice of Agency Report Forms Under OMB Review

SUMMARY: The National Aeronautics and Space Administration, as part of its continuing effort to reduce paperwork and respondent burden, invites the general public and other Federal agencies to take this opportunity to comment on proposed and/or continuing information collections, as required by the Paperwork Reduction Act of 1995 (Public Law 104-13, 44 U.S.C. 3506(c)(2)(A)). The information obtained through this collection is used by NASA management and contracting offices to assess progress toward meeting statutory goals for small businesses/small disadvantaged businesses.

DATES: Comments on this proposal should be received by January 28, 2002.

ADDRESSES: All comments should be addressed to Desk Officer for NASA; Office of Information and Regulatory Affairs; Office of Management and Budget; Room 10236; New Executive Office Building; Washington, DC, 20503.

FOR FURTHER INFORMATION CONTACT: Ms. Nancy Kaplan, NASA Reports Officer, (202) 358-1372.

Title: Small Business and Small Disadvantaged Business Concerns and Related Contract Provisions, NASA FAR Supplement Part 18-19, SF 295.

OMB Number: 2700-0073.

Type of Review: Extension.

Need and Uses: NASA requires reporting of small disadvantaged business subcontract awards in order to meet its Congressionally mandated goals.

Affected Public: Business or other for-profit; Not-for-profit institutions.

Number of Respondents: 225.

Responses Per Respondent: 2.

Annual Responses: 450.

Hours Per Request: 12.

Annual Burden Hours: 5,400.

Frequency of Report: Semi-annually.

David B. Nelson,
Deputy Chief Information Officer, Office of the Administrator.

[FR Doc. 01-31960 Filed 12-27-01; 8:45 am]

BILLING CODE 7510-01-P